SECURITIES AND EXCHANGE COMMISSION

Proposed Collections; Comment Request

Upon Written Request; Copies Available From: Securities and Exchange Commission, Office of Filings and Information Services, Washington, DC 20549.

Extension:

Form S-2, SEC File No. 270-60, OMB Control No. 3235-0072

Form F-1, SEC File No. 270-249, OMB Control No. 3235-0258

Form F-2, SEC File No. 270-250, OMB Control No. 3235-0257

Form F-3, SEC File No. 270-251, OMB Control No. 3235-0256

Form F-7, SEC File No. 270-331, OMB Control No. 3235-0383

Form F-8, SEC File No. 270-332, OMB Control No. 3235-0378

Form F-X, SEC File No. 270-336, OMB Control No. 3235-0379

Form 10-SB, SEC File No. 270-367 OMB Control No. 3235-0419

Form DF, SEC File No. 270-430, OMB Control No. 3235-0482

Form T-1, SEC File No. 270-121, OMB Control No. 3235-0110

Form T-2, SEC File No. 270-122, OMB Control No. 3235-0111

Form T-3, SEC File No. 270-123, OMB Control No. 3235-0105

Form T-4, SEC File No. 270-124, OMB Control No. 3235-0107

Schedule 13E-4F, SEC File No. 270-340, OMB Control No. 3235-0375

Schedule 14D-1F, SEC File No. 270-338, OMB Control No. 3235-0376

Schedule 14D-9F, SEC File No. 270-339, OMB Control No. 3235-0382

Rule 14f-1, SEC File No. 270-127, OMB Control No. 3235-0108

Rule 12d1-3, SEC File No. 270-116, OMB Control No. 3235-0109

Notice is hereby given that pursuant to the Paperwork Reduction Act of 1995 (44 U.S.C. 3501 et seq.) the Securities and Exchange Commission (Commission) is soliciting comments on the collections of information summarized below. The Commission plans to submit these existing collections of information to the Office of Management and Budget for approval.

Form S-2 is used for registration of securities of certain issuers. The Form S-2 provides investors with the necessary information to make investment decisions regarding securities offered to the public. The likely respondents will be public companies. The information collected must be filed with the Commission. All information is provided to the public upon request. Form S-2 takes 470 burden hours to prepare and is filed by 101 respondents for a total of 47,470 burden hours.

Form F-1 is a registration statement of securities of certain foreign private issuers. Form F-1 provides the public with the necessary information to make informed investment decisions regarding securities offered to the public by foreign private issuers. The information provided on Form F-1 is mandatory. All information on Form F-1 is reported to the public upon request. Form F-1 takes approximately 1,868 burden hours to prepare and is filed by 170 respondents. It is estimated that 25% of the 317,560 total burden hours (79,390 hours) would be prepared by the company.

Form F-2 is a registration statement of securities of certain foreign private issuers. Form F-2 provides the public with the necessary information to make informed investment decisions regarding securities offered to the public by foreign private issuers. The information provided on Form F-2 is mandatory. All information on Form F-2 is provided by the public upon request. Form F-2 takes approximately 559 hours to prepare and is filed by 5 respondents. It is estimated that 25% of the 2,795 total burden hours (699 hours) would be prepared by the company.

Form F-3 is a registration statement of securities of certain foreign issuers offered pursuant to certain types of transaction. Form F-3 provides the public with the necessary information to make informed investment decisions regarding securities offered to the public by foreign private issuers. The information provided on Form F-3 is mandatory. All information on Form F-3 is mandatory. All information on Form F-3 is provided on the public upon request. Form F-3 takes approximately 166 burden hours to prepare and is filed by 150 respondents. It is estimated that 25% of the 24,900 total burden hours (6,225 hours) would be prepared by the company.

Form F-7 is a registration statement of securities of certain Canadian issuers offered for cash upon the exercise of rights granted to existing securityholders. Form F-7 provides the public with the necessary information to make informed investment decisions regarding securities offered to the public. The information provided on Form F-7 is mandatory. All information is provided to the public upon request. It takes approximately 1 burden hour to prepare and is filed by 5 respondents.

Form F-8 is a registration statement of securities of certain Canadian issuers to be issued in exchange offers or a business combination. Form F-8 provides the public with the necessary information to make informed investment decisions. The information provided on Form F-8 is mandatory. All information on Form F-8 is provided on the public upon request. Form F-8 takes one burden hour to prepare and is filed by 16 respondents. It is estimated that 25% of the 16 total burden hours (4 hours) would be prepared by the company.

Form F-X is used to appoint an agent for service of process by Canadian issuers registering securities on Form F-7, F-8, F-9 or F-10 or filing periodic reports on Form 40-F under the Exchange Act of 1934 (Exchange Act). The information required on Form F-X provides investors with the necessary information when considering investing in Canadian companies. Form F-X takes 2 burden hours to prepare and is filed by 129 respondents. It is estimated that 25% of the 258 total burden hours (64.5 hours) would be prepared by the company.

Form 10-SB is used to register classes of securities pursuant to Section 12 of the Exchange Act to provide material information necessary for informed investment decisions. The information provided on Form 10-SB is mandatory. All information on Form 10-SB is provided to the public upon request. Form 10-SB takes 23 burden hours to prepare and is filed by 162 respondents. It is estimated that 25% of the 3,726 total burden hours (932 hours) would be prepared by the company.

Form DF is used to allow registrants to identify a filing that was filed late because of electronic filing difficulties in order to preserve the timeliness of the filing. This form is required by all issuers who are required to file on EDGAR. In addition, Form DF is required to be filed on occasion. All information provided on Form DF is provided to the public upon request. Form DF takes 12 minutes to prepare and is filed by 500 respondents for a total of 100 burden hours.

Form T-1 is a statement of eligibility and qualification for corporate trustee under the Trust Indenture Act. Form T-1 is filed on occasion. The information required by Form T-1 is mandatory. All information is provided to the public upon request. Form T-1 takes 15 burden hours to prepare and is filed by 180 respondents for a total of 2,700 burden hours.

Form T-2 is a statement of eligibility under the Trust Indenture Act of an individual designated to act as trustee. The information required by Form T-2 is mandatory. All information is provided to the public upon request. Form T-2 takes 9 burden hours to prepare and is filed by 36 respondents for a total of 324 burden hours.

Form T-3 is used as an application for qualification of indentures pursuant to the Trust Indenture Act, but only when securities to be issued thereunder are not required to be registered under the Securities Act of 1933. The information required by Form T-3 is mandatory. All information is provided to the public upon request. T-3 takes 43 burden hours to prepare and is filed by 55 respondents for a total of 2,365 burden hours.

Form T-4 is used to apply for an exemption from certain provisions of the Trust Indenture Act. The information required by Form T-4 is mandatory. All information is provided to the public upon request upon request. Form T-4 takes 5 burden hours to prepare and is filed by 3 respondents for a total of 15 burden hours.

Schedule 13E-4F may used by any issuer incorporated or organized under the laws of Canada making a tender offer for the issuer's own securities, where less than 20% of the class of such issuer's securities that is the subject of the tender offer is held of record by U.S. residents. The information required by Schedule 13E-4F must be filed with Commission. All information is provided to the public upon request. Schedule 13E-4F takes 2 burden hours to prepare and is filed by 3 respondents for a total of 6 burden hours.

Schedule 14D-1F may be used by any person making a cash tender or exchange offer for securities of any issuer incorporated or organized under the laws of Canada that is a foreign private issuer, where less than 40% of the outstanding class of such issuer's securities that is the subject of the offer is held by U.S. holders. The information required by Schedule 14D-1F must be filed with the Commission. All information is provided to the public upon request. Schedule 14D-1F takes 2 burden hours to prepare and is filed by 5 respondents for a total of 10 burden hours.

Schedule 14D-9F is used by any issuer incorporated or organized under the laws of Canada, or by any director or officer of such issuer, where the issuer is the subject of a tender offer for a class of its securities filed on Schedule 14D-1F. The information required by Schedule 14D-9F must be file with the Commission. All information is provided to the public upon request. Schedule 14D-1F takes 2 burden hours to prepare and is filed by 5 respondents for a total of 10 burden hours.

Rule 14f-1 requires issuers to disclose a change in a majority of issuer directors. The information filed under Rule 14f-1 must be filed with the Commission. All information submitted is provided to the public upon request. It takes 18 burden hours to prepare the necessary information and is filed by 44 respondents for a total of 792 burden hours.

Rule 12d1-3 requires a certification that a security has been approved by an exchange for listing and registration pursuant to section 12(d) of the Exchange Act to be filed with the Commission. The information required under Rule 12d1-3 must be filed with the Commission. All information filed with the Commission is available to the public upon request. It takes one-half hour to prepare the necessary information and is filed by 688 respondents for a total of 344 burden hours.

Written comments are invited on: (a) Whether the proposed collection of information is necessary for the performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comment to Michael E. Bartell, Associate Executive Director, Office of Information Technology, Securities and Exchange Commission, 450 Fifth Street, NW, Washington, DC 20549.

Dated: January 24, 2000.
Margaret H. McFarland,
Deputy Secretary.

[FR Doc. 00-2877 Filed 2-8-00; 8:45 am]

BILLING CODE 8010-01-M